DEPARTMENT OF AGRICULTURE

Cooperative State Research, Education, and Extension Service

Request for Proposals (RFP): Agricultural Risk Management Education Competitive Grants Program, FY 2001

AGENCY: Cooperative State Research, Education and Extension Service.

ACTION: Notice of Request for Proposals and Request for Input.

SUMMARY: The Cooperative State Research, Education and Extension Service (CSREES) announces the availability of grant funds and requests proposals for the Agricultural Risk Management Education Competitive Grants Program in fiscal year (FY) 2001. The program will focus on comprehensive risk management education (RME) for agricultural producers in the United States. It will address national, regional and local risk management issues and encourage partnering in program delivery. The amount available for this program in FY 2001 is approximately $4,800,000.

This notice sets out the objectives for projects, the eligibility criteria for projects and applicants, the application procedures, and the set of instructions needed to apply for an Agricultural Risk Management Education Competitive grant under this authority.

By this notice, CSREES is also soliciting comments regarding this Request for Proposals (RFP) from any interested party. These comments will be considered in the development of future RFP's for the program. Comments should be submitted as provided for in the Addresses and Dates portions of this notice.

DATES: Proposals must be received by COB on June 1, 2001 (5:00 p.m. EST). Proposals received after this date will not be considered for funding. Comments regarding this request for proposals are requested within six months from the issuance of this notice. Comments received after that date will be considered to the extent practicable.

ADDRESSES: The address for hand-delivered proposals or proposals submitted using an express mail or overnight courier service is: Agricultural Risk Management Education Competitive Grant Program; c/o Proposal Services Unit; Cooperative State Research, Education, and Extension Service; U.S. Department of Agriculture; Room 1307 Waterfront Center; 800 9th Street, SW.; Washington, DC 20024.

Proposals sent via the U.S. Postal Service must be sent to the following address: Agricultural Risk Management Education Competitive Grant Program; c/o Proposal Services Unit; Cooperative State Research, Education, and Extension Service; U.S. Department of Agriculture; STOP 2245; 1400 Independence Avenue, SW.; Washington, DC 20250-2245.

Written user comments should be submitted by first-class mail to: Policy and Program Liaison Staff; Office of Extramural Programs; USDA-CSREES; STOP 2299; 1400 Independence Avenue, SW.; Washington, DC 20250-2299; or via e-mail to: RFP-OEP@reeusda.gov. In your comments, please include the name of the program and the fiscal year of the RFP to which you are responding.

FOR FURTHER INFORMATION CONTACT: Applicants and other interested parties are encouraged to contact: Dr. Donald A. West; National Program Leader, Farm Business Management; Economic and Community Systems Unit; Cooperative State Research, Education and Extension Service; U.S. Department of Agriculture; STOP 2215; 1400 Independence Avenue, SW.; Washington, DC 20250-2215; Telephone: (202) 720-7166; Fax: (202) 690-3162; e-mail address: dwest@reeusda.gov.

SUPPLEMENTARY INFORMATION:

Table of Contents

Stakeholder Input

Catalog of Federal Domestic Assistance

Part I—General Information

A. Legislative Authority and Background

B. Purpose, Priorities and Fund Availability

C. Definitions

D. Eligibility

E. Restrictions on Use of Funds

Part II—Program Description

A. Project Types

B. Program Description

Part III—Preparation of a Proposal

A. Program Application Material

B. Content of Proposals

C. Submission of Proposals

D. Acknowledgment of Proposals

Part IV—Review Process

A. General

B. Evaluation Criteria

C. Conflicts of Interest and Confidentiality

Part V—Additional Information

A. Access to Peer Review Information

B. Grant Awards

C. Use of Funds; Changes

D. Applicable Federal Statutes and Regulations

E. Confidential Aspects of Proposals and Awards

F. Regulatory Information

Stakeholder Input

Stakeholder input for this RFP was obtained through listening sessions held in: Raleigh, North Carolina; Boise, Idaho; and Kansas City, Missouri in September 2000. Input was obtained from: producers; representatives of commodity organizations; representatives of colleges and universities (e.g., faculty, extension educators, and administrators); and representatives from the private sector. Written and oral testimony at those sessions has been used extensively in the development of this RFP. Transcripts of these sessions are available on the national AgRisk Electronic Library/Website. The address is http://www.agrisk.umn.edu.

In addition, CSREES is soliciting comments regarding this solicitation of applications from any interested party. These comments will be considered in the development of any future RFP for the program. Such comments will be forwarded to the Secretary or her designee for use in meeting the requirements of section 103(c)(2) of the Agricultural Research, Extension, and Education Reform Act of 1998 (7 U.S.C. 7613(c)(2)). This section requires the Secretary to solicit and consider input on a current RFP from persons who conduct or use agricultural research, education and extension for use in formulating future RFPs for competitive programs. Comments should be submitted as provided for in the “Addresses” and “Dates” portions of this Notice.

Catalog of Federal Domestic Assistance

This program is listed in the Catalog of Federal Domestic Assistance under 10.500, Agricultural Risk Management Education Competitive Grant Program.

Part I—General Information

A. Legislative Authority and Background

Section 133 of the Agricultural Risk Protection Act of 2000, Pub. L. 106-224, amended the Federal Crop Insurance Act to add section 524(a)(3), which requires the Secretary, acting through the Cooperative State Research, Education, and Extension Service (CSREES), to establish a competitive grants program for the purpose of educating agricultural producers about the full range of risk management activities. These activities include futures, options, agricultural trade options, crop insurance, cash forward contracting, debt reduction, production diversification, farm resources risk reduction and other risk management strategies.

Approximately $4,800,000 will be available for funding in FY 2001.

The RME program will bring the existing knowledge base to bear on risk management issues faced by agricultural producers and expand the program throughout the nation. Applicants are encouraged to recognize the risk management education (RME) needs of all producers, including small-scale and minority producers and women, while giving special consideration to educational needs of producers who have had limited exposure to risk management concepts, tools and strategies.

Subject to the availability of funds, organizations eligible to apply for and receive grant awards are land-grant colleges or universities, cooperative extension services, other colleges or universities, and other qualified public and private entities with a demonstrated capacity to develop and carry out educational programs for agricultural producers.

B. Purpose, Priorities and Fund Availability

The program will support a wide range of extension education activities in risk management for agricultural producers. The primary purpose is to provide U.S. agricultural producers with the knowledge, skills and tools needed to make informed risk management decisions for their operations. Applicant activities should include: the use of existing and the formation of new educational networks focused on agricultural producers; the development of agricultural risk management curricula and materials; the delivery of agricultural RME to producers using one or more of the wide range of delivery methods; and the verification of program impacts.

Priority will be given to projects that recognize and document the RME needs of producers as they exist at regional, state and local levels, and propose effective educational programs that address those needs. Regionally based programs should be flexible while addressing special needs as determined by: producer audiences; commodity mixes; types of risks associated with production, marketing, financial, legal and human resource conditions; and/or other factors that hold the greatest potential for assisting producers.

There is no commitment by the U.S. Department of Agriculture (USDA) to fund any particular proposal or to make a specific number of awards.

C. Definitions

For the purpose of awarding grants under this program, the following definitions are applicable:

(1) Administrator means the Administrator of the Cooperative State Research, Education, and Extension Service (CSREES) and any other officer or employee of the Department to whom the authority involved is delegated.

(2) Agricultural Risk Management means the informed use, as appropriate, of the full range of agricultural risk management activities, including futures, options, agricultural trade options, crop insurance, cash forward contracting, debt reduction, production diversification, farm resources risk reduction and other risk management strategies, by agricultural producers. It includes those risks encountered in the production, marketing, financial, legal, and human resource(s) aspects of farm and ranch operations.

(3) Authorized departmental officer means the Secretary or any employee of the Department who has the authority to issue or modify grant instruments on behalf of the Secretary.

(4) Authorized organizational representative means the president, director, chief executive officer, or other designated official of the applicant organization, who has the authority to commit the resources of the organization.

(5) Budget period means the interval of time (usually 12 months) into which the project period is divided for budgetary and reporting purposes.

(6) Cash contributions means the applicant's cash outlay, including the outlay of money contributed to the applicant by non-Federal third parties.

(7) Department or USDA means the United States Department of Agriculture.

(8) Education activity means formal classroom instruction, laboratory instruction, and practicum experience in the food and agricultural sciences and other related matters such as faculty development, student recruitment and services, curriculum development, instructional materials and equipment, and innovative teaching methodologies.

(9) Extension activity means an act or process that delivers science-based knowledge and informal educational programs to people, enabling them to make practical decisions.

(10) Grant means the award by the Secretary of funds to an eligible organization or individual to assist in meeting the costs of conducting, for the benefit of the public, an identified project which is intended and designed to accomplish the purpose of the program as identified in these guidelines.

(11) Grantee means the organization designated in the grant award document as the responsible legal entity to which a grant is awarded.

(12) Matching means that portion of allowable project costs not borne by the Federal Government, including the value of in-kind contributions.

(13) Partnering means a joint effort among two or more institutions, organizations and/or other entities with the capacity to conduct projects intended and designed to accomplish the purpose of the program.

(14) Peer review means an evaluation of a proposed project for scientific or technical quality and relevance performed by experts with the scientific knowledge and technical skills to conduct the proposed work or to give expert advice on the merits of a proposal.

(15) Peer review panel means a group of experts qualified by training and/or experience in particular fields to evaluate eligible proposals in those fields submitted under this RFP.

(16) Performance target means expected measurable accomplishments that can be used to document the extent of change brought about by the project.

(17) Principal investigator/Project director means the single individual designated in the grant application and approved by the Secretary who is responsible for the direction and management of the project.

(18) Prior approval means written approval evidencing prior consent by an authorized departmental officer as defined in (3) above.

(19) Producers means individuals, families, or other entities in the U.S. engaged in the business of agricultural production and marketing before the farm gate.

(20) Project means the particular activity within the scope of the program supported by a grant award.

(21) Project period means the period, as stated in the award document, during which Federal sponsorship begins and ends.

(22) Qualified Public and Private Entities means public or private groups, organizations, or institutions that have established and demonstrated capacities to conduct projects that accomplish the purposes of the program as designated in these guidelines.

(23) Secretary means the Secretary of Agriculture and any other officer or employee of the Department to whom the authority involved is delegated.

(24) Third party in-kind contributions means non-cash contributions of property or services provided by non-Federal third parties, including real property, equipment, supplies and other expendable property, directly benefitting and specifically identifiable to a funded project or program.

D. Eligibility

Proposals are invited from qualified public and private entities. This includes all colleges and universities, Federal, State, and local agencies, nonprofit and for-profit private organizations or corporations, and other entities.

Although an applicant may be eligible to compete for an award based on its status as an eligible entity, other factors may exclude an applicant from receiving Federal assistance under this program (e.g., debarment and suspension, a determination of non-responsibility based on the information submitted).

E. Restrictions on Use of Funds

Program funds may not be used for the renovation or refurbishment of research spaces; the purchase or installation of fixed equipment in such spaces; or the planning, repair, rehabilitation, acquisition, or construction of buildings or facilities.

Part II—Program Description

A. Project Types

1. Regional Centers

RME Centers will be supported/established in the Northeastern, Southern, North Central and Western Regions of the United States. The Regional RME Centers will be initially supported at a level of up to $1.25 million for approximately one year at levels reflective of the activities proposed. The extent of Center's proposed activities and the amount of the award is expected to vary in accordance to the number of producers in the region, the number of public and private institutions and other partners involved, the types of agricultural risks that prevail, the range of commodities and specialty crops involved and other relevant factors. A Regional Centers proposal may call for the establishment of a satellite center to meet the needs of specially targeted audiences. The budget request should be at levels reflective of the scope of the proposed activity, recognizing the program complexity and the numbers and characteristics of targeted producers.

The Regional Centers are expected to conduct projects within their region. These projects are to be solicited and selected for funding by the RME Center recipient through a competitive process. The Centers may also support special projects for training, coordination and communication networks that are developed, with stakeholder input, and conducted by the Centers.

Receipt of a Regional Center grant under this RFP is not a guarantee of receipt of future grant funds under this program. Applications for continuation grants under this program in future years will be subject to competition.

2. Standard Projects

Approximately $960,000 is available for proposals for national or multi-regional grants in FY 2001. Proposals can be up to three years in length with a budget of not more than $300,000 for the full period proposed.

B. Program Description

Proposals should build on effective programs on agricultural risk management that have been developed within the Land Grant College and University System and/or have evolved within the past three years with support from the Risk Management Agency of USDA and involvement of partners in the private sector. A national AgRisk Electronic Library (Website: http://www.agrisk.umn.edu) established in 1998, provides ready access to materials documenting these programs. The applicant should focus on providing RME to producers, building on the educational base and networks that have been established. This expanded program will take place through the four Regional Centers and the series of projects funded at the national, multi-state or state levels through Standard Project grants.

Regional Risk Management Education Centers

The USDA, using stakeholder input, has placed a high priority on the establishment of Regional RME Centers as a means of meeting the specific risk management education needs that exist within regions. The Centers will assist the USDA and its other partners to conduct a national RME program to address regional, state and local needs. The process to develop the Regional Centers will begin in FY 2001 with the formation of four geographically based Regional Centers with one each in the Northeastern, Southern, North Central and Western Regions of the United States. The establishment of Regional Centers should address specific regional risk management education needs, diverse audiences, commodity and enterprise mixes, and other conditions that exist at the regional, state and local levels. Educational programs will cover the full range of risk management activities, including futures, options, agricultural trade options, crop insurance, cash forward contracting, debt reduction, production diversification, farm resources risk reduction, and other risk management strategies.

Development and delivery of effective RME programs must take into account regional, state and local issues affecting producers as well as common RME components that exist across the nation. The Centers should facilitate rapid feedback from producers and other stakeholders within the region, and tailor the RME program to meet specific and emerging needs.

Regional RME Centers will have primary responsibility for development and implementation of agricultural RME programs within their respective regions. However, smaller satellite centers, coordinating with the Regional Center, may be established to meet the needs of specially targeted audiences. Regional RME Centers will be the locus for building partnerships among pubic and private entities. The Centers will solicit and select regional projects through a competitive process taking into consideration stakeholder input. The Centers should promote collaboration that includes the exchange of materials and information, open communication, and integration of activities around RME issues within the region. Centers should bring together the expertise and knowledge needed to address RME issues, drawing from regional sources and from national or multi-regional projects that provide broad or specialized knowledge for a particular situation.

The four Regional RME Centers will be the primary vehicle for delivering RME to agricultural producers recognizing the special needs, audiences, commodities, production and marketing conditions and other regional factors that must be considered in developing and delivering effective RME programs. They will be expected to verify activities and report program results on a continuing basis.

Applicants for the four Regional RME Centers should present plans that demonstrate their program and administrative capacity to solicit, select and support a set of RME projects that address the RME priorities within their region. These plans should indicate how RME coverage will be provided to all producers within the region and should recognize the role of women in risk management decision-making. They should give special consideration to targeted producer audiences, including small-scale and minority producers that have special RME needs.

Proposals will be expected to meet the following objectives:

1. Provide regional RME program leadership and coordination, including a plan for reaching agricultural producers with RME programs. This includes developing and implementing mechanisms that identify agricultural RME needs that are specific to producers within the region. Applicants should recognize the importance of specialty crops within the region and risks associated with them. An emphasis should be placed on the development and implementation of programs to reach producers with little or no prior exposure to RME, and that recognizes minority producers and the role of women, spouses and the family in decision-making.

2. Give attention to RME needs of specially targeted audiences including small-scale and minority producers and to specific types of risks, commodities and other conditions that exist within the region. This may involve the development of satellite center(s) within the region to provide more direct focus for associated programs. Focus on specially targeted audiences will include the development and/or acquisition of relevant materials and curricula, and providing updates on changes in crop insurance and other risk management programs in formats that communicate with these audiences.

3. Establish an entity, such as an Advisory Council, that represents stakeholders and will ensure that planning, project selection and funding determined at the regional level occurs with a broad base of support consistent with stakeholder needs. Plans should include procedures for regional representation on a national coordinating body.

4. Develop and implement a competitive process for selection of regional projects and allocation of regional funds. This process must be consistent with the requirements and guidelines established for the entire RME program.

5. Promote partnering among public and private entities within the region.

6. Conduct regional training workshops on existing or emerging risk management topics, as needed.

7. Establish a regionally-based RME program verification system and communication network that will document program results and promote communication within and across regions, and nationally.

Proposed budgets for the Regional RME Center grants may include funding for the Center Director and support staff. Additional funding may be used to support Center activities including needs assessment, stakeholder input and guidance, regional competitive processes, regional training efforts and materials development and other necessary activities conducted by the Center.

Standard Projects

Approximately $960,000 has been allocated to support Standard RME Projects. These projects must have nationwide or multi-state applicability and complement the entire Agricultural RME Competitive Grants program. Requested funds for a single proposal for a national project cannot exceed a total of $300,000 for a duration of up to three years. The amount requested must be commensurate with the activities proposed. These projects are expected to address special and emerging issues, foster nationwide exchanges of RME information and materials, enhance verification and reporting of results, and promote coordination across regional programs while avoiding duplication of efforts. Standard Projects will be encouraged to coordinate with the regional projects and complement cross-regional activities. Proposals that build on existing information networks and offer innovative or expanded activities are encouraged.

Standard Project proposals will be expected to meet one or more of the following objectives:

1. Meet a specialized RME need that is either national, multi-regional, or multi-state in scope, e.g. educational programs focused on legal or human resource risks that occur in non-contiguous regions or states and that have common characteristics that can be addressed in a single project;

2. Identify emerging agricultural risk management issues with nationwide implications and develop innovative approaches and educational materials to assist producers in managing them;

3. Provide a national source of RME information, materials and software that may be readily accessed nationally and internationally through electronic media;

4. Develop and maintain a national database that compiles results from Regional RME Centers and other projects, including verification of accomplishments, and compile reports that can be used to inform stakeholders;

5. Conduct national conferences and/or workshops that enhance sharing of regional RME program results, promote program coordination and train educators on new risk management tools and strategies.

C. Expected Program Outputs and Reporting Requirements

Funded projects will be expected to verify program accomplishments. Accomplishments can include expanded awareness of the importance of risk management and greater knowledge of risk management tools and strategies among program participants. Evidence of actual or intended beneficial changes in their risk management behavior is particularly desirable, in addition to documentation of producer involvement in program activities. The evidence is expected to include participants' assessment of the value of program materials and instruction, and suggestions for addition or deletion of topics and instructional materials.

Grantees must prepare semi-annual reports that document significant activities or events that show movement toward achieving goals and objectives of the project. The reports should specify performance targets for that period and contain evidence that verifies the extent to which these targets have been met. Regional projects should contribute regularly to a national database which shows the combined impact of the program.

Part III—Preparation of a Proposal

A. Program Application Material

Program application materials are available at the CSREES website (www.reeusda.gov/RME). If you do not have access to our web page or have trouble downloading material, you may contact the Proposal Services Unit, Office of Extramural Programs, USDA/CSREES at (202) 401-5048. When calling the Proposal Services Unit, please indicate that you are requesting forms for the Fiscal Year 2001 Agricultural Risk Management Education Competitive Grants Program. These materials may also be requested via Internet by sending a message with your name, mailing address (not e-mail) and phone number to psb@reeusda.gov. State that you want a copy of the Program Description and application materials (orange book) for the Fiscal Year 2001 Agricultural Risk Management Education Competitive Grants Program.

B. Content of Proposals

1. General

The proposal should follow these guidelines, enabling reviewers to more easily evaluate the merits of each proposal in a systematic, consistent fashion:

(a) The proposal should be prepared on only one side of the page using standard size (8½″ x 11″) white paper, one inch margins, typed or word processed using no type smaller than 12 point font, and single or double spaced. Use an easily readable font face (e.g., Geneva, Helvetica, Times Roman).

(b) Each page of the proposal, including the Project Summary, budget pages, required forms, and any appendices, should be numbered sequentially.

(c) The proposal should be stapled in the upper left-hand corner. Do not bind. An original and 14 copies (15 total) must be submitted in one package, along with 10 copies of the “Project Summary” as a separate attachment.

(d) If applicable, proposals should include original illustrations (photographs, color prints, etc.) in all copies of the proposal to prevent loss of meaning through poor quality reproduction.

2. Cover Page

Each copy of each grant proposal must contain an “Application for Funding”, Form CSREES-661. One copy of the application, preferably the original, must contain the pen-and-ink signature(s) of the proposing principal investigator(s)/project director(s) (PI/PD) and the authorized organizational representative who possesses the necessary authority to commit the organization's time and other relevant resources to the project. Any proposed PI/PD or co-PI/PD whose signature does not appear on Form CSREES-661 will not be listed on any resulting grant award. Complete both signature blocks located at the bottom of the “Application for Funding” form.

Form CSREES-661 serves as a source document for the CSREES grant database; it is therefore important that it be completed accurately. The following items are highlighted as having a high potential for errors or misinterpretations:

(a) Legal Name of Organization (Block 1). Be sure to indicate the full name of the submitting organization, e.g. University of (state), Cooperative Extension Service.

(b) Title of Project (Block 6). The title of the project must be brief (80-character maximum), yet represent the major thrust of the effort being proposed. Project titles are read by a variety of nonscientific people; therefore, highly technical words or phraseology should be avoided where possible. In addition, introductory phrases such as “investigation of,” “research on,” “education for,” or “outreach that” should not be used.

(c) Program to Which You Are Applying (Block 7). “RME” or Risk Management Education Competitive Grants Program.

(d) Program Area and Number (Block 8). Leave blank.

(e) Type of Award Request (Block 13). Check the block for “new.”

(f) Principal Investigator(s)/Project Director(s) (PI/PD) (Block 15). The designation of excessive numbers of co-PI/PD's creates problems during final review and award processing. Listing multiple co-PI/PDs, beyond those required for genuine collaboration, is therefore discouraged. Note that providing a Social Security Number is voluntary, but is an integral part of the CSREES information system and will assist in the processing of the proposal.

(g) Type of Performing Organization (Block 18). A check should be placed in the box beside the type of organization which actually will carry out the effort. For example, if the proposal is being submitted by an 1862 Land-Grant institution but the work will be performed in a department, laboratory, or other organizational unit of an agricultural experiment station, box “03” should be checked. If portions of the effort are to be performed in several departments, check the box that applies to the individual listed as PI/PD #1 in Block 15.a.

(h) Other Possible Sponsors (Block 22). List the names or acronyms of all other public or private sponsors including other agencies within USDA and other programs funded by CSREES to whom your application has been or might be sent. In the event you decide to send your application to another organization or agency at a later date, you must inform the identified CSREES Program Director as soon as practicable. Submitting your proposal to other potential sponsors will not prejudice its review by CSREES; however, duplicate support for the same project will not be provided. Complete the “Application for Funding,” Form CSREES-661, in its entirety.

(i) One copy of the “Application for Funding” form must contain the original signatures (in ink) of the PI/PD(s) and authorized organizational representative for the applicant organization.

3. Table of Contents

For consistency and ease in locating information, each proposal must contain a detailed Table of Contents just after the cover page. The Table of Contents should contain page numbers for each component of the proposal. Page numbers should begin with the first page of the Project Description.

4. Project Summary

The proposal must contain a Project Summary of 250 words or less on a separate page which should be placed immediately after the Table of Contents and should not be numbered. The names and institutions of all PI/PDs and co-PI/PDs should be listed on this form, in addition to the title of the project. The summary should be a self-contained, specific description of the activity to be undertaken and should focus on: overall project goal(s) and supporting objectives; plans to accomplish the project goal(s); and relevance of the project to the Agricultural Risk Management Education Competitive Grants Program. The importance of a concise, informative Project Summary cannot be overemphasized.

5. Project Description

The written text may not exceed 15 single-or double-spaced pages of written text for Standard Project grant proposals and 20 single- or double-spaced pages for Regional Centers proposals including figures and tables, but excluding citations.

Standard Projects

Each Standard Project proposal's Project Description should contain the following:

a. Introduction—A clear statement of the long-term goal(s) and supporting objectives of the proposed activities should be included. Summarize the body of knowledge which substantiates the need for the proposed project. Describe ongoing or recently completed significant activities related to the proposed project, including the work of key project personnel. Preliminary data/information pertinent to the proposed project should be included.

b. Relevance and significance—The objectives' specific relationship to the goals of the RME program should be stated. Include a description of the significance of the activity and its value in improving agriculture. Clearly describe the potential impact of the project.

c. Approach—The activities proposed or problems being addressed must be clearly stated and the approaches being applied clearly described. The following should be included: (1) A description of the activities proposed; (2) methods to be used in carrying out the project, including the feasibility of the methods; (3) expected outcomes; (4) means by which results will be analyzed, assessed, or interpreted; and (5) how results or products will be used.

d. Project Timetable—The proposal should outline all important phases as a function of time, year by year, for the entire project, including periods beyond the grant funding period.

e. Verification and Monitoring—Provide a plan for assessing and verifying the accomplishments of the stated proposal objectives during the project and describe ways to determine the effectiveness of the end results during and upon termination of the project.

f. Collaborative Arrangements—Identify collaborations and provide a full explanation of the nature of the collaborations.

g. Cooperation and Institutional Units Involved—Cooperative, multi-institutional and multi-disciplinary applications are encouraged. Identify each institutional unit contributing to the project and designate the lead institution or institutional unit. When appropriate, the project should be coordinated with the efforts of other State, Regional and/or national programs. Clearly define the roles and responsibilities of each institutional partner of the project team.

h. Facilities and Equipment—All facilities which are available for use or assignment to the project during the requested period of support should be reported and described briefly. All items of major equipment or instrumentation available for use or assignment to the proposed project should be itemized. In addition, items of nonexpendable equipment needed to conduct and bring the project to a successful conclusion should be listed, including dollar amounts and, if funds are requested for their acquisition, justified.

Regional RME Centers

Each Regional RME Center proposal should include all the above items required for a Standard Project proposal, but should also include the following:

a. Substantiate the need for a Regional Center as opposed to a single project approach including how the consortia will add value over funding of separate efforts.

b. Management Plan—It is expected that centers projects will require more extensive and complicated coordination and collaboration than is typically proposed for Standard Projects. Therefore, explain how the Center will be managed to ensure efficient administration of the grant and how activities will be integrated most effectively. The Management Plan should be inserted as the last part of the Project Description.

c. Evaluation and Monitoring of Project Administration—In addition to the verification and monitoring of accomplishments associated with the Center, evaluation and monitoring of the administration of the Center must also be included. This description should include how funds and resources will be allocated so that collaborative participation of all parties throughout the duration of the project is ensured. This description should be placed after the Verification and Monitoring Section described above under Standard Projects.

6. Appendices to Project Description

Appendices to the Project Description are allowed if they are directly germane to the proposed project (e.g. documentation of previous related program impacts, widely distributed materials, or other brief indicators of previous program effectiveness.)

7. Key Personnel

The following should be included, as applicable:

a. The roles and responsibilities of each PI/PD and/or collaborator should be described;

b. An estimate of time commitment for each PI/PD and/or collaborator including current and pending projects; and

c. Vitae of each PI/PD, senior associate and other professional personnel. This section should include vitae of all key persons who are expected to work on the project, whether or not CSREES funds are sought for their support. The vitae should be limited to two (2) pages in length, excluding publication lists. List only those technical publications that have relevance to the proposed project. All authors should be listed in the same order as they appear on each paper cited, along with the title and complete reference as these usually appear in journals.

8. Conflict-of-Interest List

A Conflict-of-Interest List must be provided for all individuals involved in the project (i.e., each individual submitting a vitae in response to item 7.(c) of this part). Each list should be on a separate page and include alphabetically the full names of the individuals in the following categories: (a) all collaborators on projects within the past four years, including current and planned collaborations; (b) all co-authors on publications within the past four years, including pending publications and submissions; (c) all persons in your field with whom you have had a consulting or financial arrangement within the past four years who stand to gain by seeing the project funded; and (d) all thesis or postdoctoral advisees/advisors within the past four years (some may wish to call these life-time conflicts). This form is necessary to assist program staff in excluding from proposal review those individuals who have conflicts-of-interest with the personnel in the grant proposal. The Program Director must be informed of any additional conflicts-of-interest that arise after the proposal is submitted.

9. Collaborative and/or Subcontractual Arrangements

If it will be necessary to enter into formal consulting or collaborative arrangements with others, such arrangements should be fully explained and justified. In addition, evidence should be provided that the collaborators involved have agreed to render these services. If the need for consultant services is anticipated, the proposal narrative should provide a justification for the use of such services, a statement of work to be performed, the rate of pay, and a resume or curriculum vita for each consultant. For purposes of proposal development, informal day-to-day contacts between key project personnel and outside experts are not considered to be collaborative arrangements and thus do not need to be detailed.

All anticipated subcontractual arrangements also should be explained and justified in this section. A proposed statement of work and a budget for each arrangement involving the transfer of substantive programmatic work or the providing of financial assistance to a third party must be provided. Agreements between departments or other units of your own institution and minor arrangements with entities outside of your institution (e.g., requests for outside laboratory analyses) are excluded from this requirement.

If you expect to enter into subcontractual arrangements, please note that the provisions contained in 7 CFR Part 3019, USDA Uniform Administrative Requirements for Grant and Other Agreements with Institutions of Higher Education, Hospitals, and Other Non-Profit Organizations, and the general provisions contained in 7 CFR Part 3015.205, USDA Uniform Federal Assistance Regulations, flow down to subrecipients. Required clauses from Sections 40-48 (“Procurement Standards”) and Appendix A (“Contract Provisions”) to 7 CFR Part 3019 should be included in final contractual documents, and it is necessary for the subawardee to make a certification relating to debarment/suspension. In addition, Form AD-1048 must be completed by each subcontractor or consultant and retained by the grantee.

10. Budget

a. Budget Form—Prepare the budget, Form CSREES-55, in accordance with instructions provided. A budget form is required for each year of requested support. In addition, a cumulative budget is required detailing the requested total support for the overall project period. The budget form may be reproduced as needed by applicants. Funds may be requested under any of the categories listed on the form, provided that the item or service for which support is requested is allowable under the authorizing legislation, the applicable Federal cost principles, and these program guidelines, and can be justified as necessary for the successful conduct of the proposed project. Applicants must also include a Budget Narrative to justify their budgets (see section b below.)

The following guidelines should be used in developing your proposal budget(s):

1. Salaries and Wages. Salaries and wages are allowable charges and may be requested for personnel who will be working on the project in proportion to the time such personnel will devote to the project. If salary funds are requested, the number of Senior and Other Personnel and the number of CSREES-Funded Work Months must be shown in the spaces provided. Grant funds may not be used to augment the total salary or rate of salary of project personnel or to reimburse them for time in addition to a regular full-time salary covering the same general period of employment. Salary funds requested must be consistent with the normal policies of the institution.

2. Fringe Benefits. Funds may be requested for fringe benefit costs if the usual accounting practices of your organization provide that organizational contributions to employee benefits (e.g. social security and retirement) be treated as direct costs. Fringe benefit costs may be included only for those personnel whose salaries are charged as a direct cost to the project.

3. Nonexpendable Equipment. Nonexpendable equipment means tangible nonexpendable personal property including exempt property charged directly to the award having a useful life of more than one year and an acquisition cost of $5,000 (or lower, depending on institutional policy) or more per unit. As such, items of necessary instrumentation or other nonexpendable equipment should be listed individually by description and estimated cost in the Budget Narrative. This applies to revised budgets as well, as the equipment item(s) and amount(s) may change.

4. Materials and Supplies. The types of expendable materials and supplies which are required to carry out the project should be indicated in general terms with estimated costs in the Budget Narrative.

5. Travel. The type and extent of travel and its relationship to project objectives should be described briefly and justified. If travel is proposed, the destination, the specific purpose of the travel, a brief itinerary, inclusive dates of travel, and estimated cost must be provided for each trip. Airfare allowances normally will not exceed round-trip jet economy air accommodations. U.S. flag carriers must be used when available. See 7 CFR Part 3015.205(b)(4) for further guidance.

6. Publication Costs/Page Charges. Include anticipated costs associated with publications in a journal (preparing and publishing results including page charges, necessary illustrations, and the cost of a reasonable number of coverless reprints) and audio-visual materials that will be produced. Photocopying and printing brochures, etc., should be shown in Section I., “All Other Direct Costs” of Form CSREES-55.

7. Computer (ADPE) Costs. Reimbursement for the costs of using specialized facilities (such as a university—or department—controlled computer mainframe or data processing center) may be requested if such services are required for completion of the work.

8. All Other Direct Costs. Anticipated direct project charges not included in other budget categories must be itemized with estimated costs and justified in the Budget Narrative. This also applies to revised budgets, as the item(s) and dollar amount(s) may change. Examples may include space rental at remote locations, subcontractual costs, and charges for consulting services, telephone, facsimile, shipping costs, and fees necessary for laboratory analyses. You are encouraged to consult the “Instructions for Completing Form CSREES-55, Budget,” of the Application Kit for detailed guidance relating to this budget category.

9. Indirect Costs. If available, the current rate negotiated with the cognizant Federal negotiating agency should be used. Indirect costs may not exceed the negotiated rate. If a negotiated rate is used, the percentage and base should be indicated in the space allotted under item K. on the Budget Form. If no rate has been negotiated, a reasonable dollar amount for indirect costs may be requested, which will be subject to approval by USDA. In the latter case, if a proposal is recommended for funding, an indirect cost rate proposal must be submitted prior to award to support the amount of indirect costs requested. CSREES will request an indirect cost rate proposal and provide instructions, as necessary.

A proposer may elect not to charge indirect costs and, instead, charge only direct costs to grant funds. Grantees electing this alternative, however, will not be allowed to charge, as direct costs, indirect costs that otherwise would be in the grantee's indirect cost pool under the applicable Office of Management and Budget cost principles. If indirect costs are not charged, the phrase “None requested” should be written in this space. Having requested no indirect costs, a grantee will not be permitted at a later date to revise its budget to allow for indirect costs.

b. Budget Narrative—All budget categories, with the exception of Indirect Costs for which support is requested, must be individually listed (with costs) and justified on a separate sheet of paper and placed immediately behind the Budget Form. Explanations of project matching, including in-kind contributions, are to be included in this section.

c. Matching Funds—Matching under this program is encouraged but not required. Applicants proposing to provide matching support should show the sources and amount of all matching from outside the applicant organization. This should be summarized on a separate page and placed in the proposal immediately following the Budget Narrative. All pledge arrangements must be placed in the proposal immediately following the summary of the matching support.

The value of applicant contributions to the project shall be established in accordance with applicable cost principles. Applicants should refer to OMB Circulars A-21, Cost Principles for Educational Institutions, A-87, Cost Principles for State, Local, and Tribal Governments, A-122, Cost Principles for Non-Profit Organizations, and for for-profit organizations, the cost principles in the Federal Acquisition Regulations at 48 CFR Subpart 31.2 (see 7 CFR 3015.194).

11. Current and Pending Support

All proposals must contain Form CSREES-663 listing other current public or private support (including in-house support) to which key personnel identified in the proposal have committed portions of their time, whether or not salary support for person(s) involved is included in the budget. Analogous information must be provided for any pending proposals that are being considered by, or that will be submitted in the near future to, other possible sponsors, including other USDA Programs or agencies. Concurrent submission of identical or similar proposals to the possible sponsors will not prejudice proposal review or evaluation by the CSREES for this purpose. However, a proposal that duplicates or overlaps substantially with a proposal already reviewed and funded (or to be funded) by another organization or agency will not be funded under this program. Note that the project being proposed should be included in the pending section of the form.

12. Assurance Statement(s), (Form CSREES-662)

A number of situations encountered in the conduct of projects require special assurances, supporting documentation, etc., before funding can be approved for the project. In addition to any other situation that may exist with regard to a particular project, it is expected that some applications submitted in response to these guidelines will involve the following:

a. Protection of Human Subjects—Responsibility for safeguarding the rights and welfare of human subjects used in any grant project supported with funds provided by CSREES rests with the performing organization. Guidance on this issue is contained in the National Research Act, Pub. L. No. 93-348, as amended, and implementing regulations promulgated by the Department under 7 CFR part 1c. If you propose to use human subjects for experimental purposes in your project, you should check the “yes” box in Block 21 of Form CSREES-661 and complete Section C of Form CSREES-662. In the event a project involving human subjects results in a grant award, funds will be released only after the appropriate Institutional Review Board has approved the project.

13. Certifications

Note that by signing Form CSREES-661 the applicant is providing certifications required by 7 CFR Part 3017, as amended, regarding Debarment and Suspension and Drug-Free Workplace, and 7 CFR Part 3018, regarding Lobbying. The certification forms are included in the application package for informational purposes only. These forms should not be submitted with the proposal since by signing form CSREES-661 your organization is providing the required certifications. If the project will involve a subcontractor or consultant, the subcontractor/consultant should submit a form AD-1048 to the grantee organization for retention in their records. This form should not be submitted to USDA.

14. Compliance With the National Environmental Policy Act (NEPA)

As outlined in 7 CFR Part 3407 (the Cooperative State Research, Education, and Extension Service regulations implementing NEPA), the environmental data for any proposed project is to be provided to CSREES so that CSREES may determine whether any further action is needed. In some cases, however, the preparation of environmental data may not be required. Certain categories of actions are excluded from the requirements of NEPA.

In order for CSREES to determine whether any further action is needed with respect to NEPA, pertinent information regarding the possible environmental impacts of a particular project is necessary; therefore, Form CSREES-1234, “NEPA Exclusions Form,” must be included in the proposal indicating whether the applicant is of the opinion that the project falls within a categorical exclusion and the reasons therefore. If it is the applicant's opinion that the proposed project falls within the categorical exclusions, the specific exclusion must be identified. Form CSREES-1234 and supporting documentation should be included as the last page of this proposal.

Even though a project may fall within the categorical exclusions, CSREES may determine that an Environmental Assessment or an Environmental Impact Statement is necessary for an activity, if substantial controversy on environmental grounds exists or if other extraordinary conditions or circumstances are present which may cause such activity to have a significant environmental effect.

C. Submission of Proposals

1. When To Submit (Deadline Date)

Proposals must be received by COB on June 1, 2001 (5:00 p.m. EST). Proposals received after this date will not be considered for funding.

2. What To Submit

An original and 14 copies must be submitted. In addition submit 10 copies of the proposal's Project Summary. All copies of the proposals and the Project Summaries must be submitted in one package.

3. Where To Submit

Applicants are strongly encouraged to submit completed proposals via overnight mail or delivery service to ensure timely receipt by the USDA. The address for hand-delivered proposals or proposals submitted using an express mail or overnight courier service is: Agricultural Risk Management Education Competitive Grants Program; c/o Proposal Services Unit; Cooperative State Research, Education, and Extension Service; U.S. Department of Agriculture; Room 1307, Waterfront Centre; 800 9th Street, S.W.; Washington, D.C. 20024.

Proposals sent via the U.S. Postal Service must be sent to the following address: Agricultural Risk Management Education Competitive Grants Program; c/o Proposal Services Unit; Cooperative State Research, Education, and Extension Service; U.S. Department of Agriculture; STOP 2245; 1400 Independence Avenue, S.W.; Washington, D.C. 20250-2245.

D. Acknowledgment of Proposals

The receipt of proposals will be acknowledged by e-mail. Therefore, applicants are encouraged to provide e-mail addresses, where designated, on the Form CSREES-661. If the applicant's e-mail address is not indicated, CSREES will acknowledge receipt of the proposal by letter.

Once the proposal has been assigned an identification number, please cite that number on all future correspondence. If the applicant does not receive an acknowledgment within 60 days of the submission deadline, please contact the Program Director.

Part IV—Review Process

A. General

Each proposal will be evaluated using a two-part process. First, each proposal will be screened to ensure that it meets the administrative requirements as set forth in this request for proposals. Second, a panel will consider the relevance, technical merits and management/delivery capacity identified in the proposal.

Priority consideration will be given to recipients providing matching, either cash or in-kind, that is commensurate with the project's scope and the organization's resources.

The peer review panel will be comprised of representatives from USDA and other federal agencies, agricultural producers and/or commodity organizations, experts from colleges and universities, and others representing public and private entities as needed.

Overall, peer review panel members will be selected based upon their training and experience in relevant education or extension fields taking into account the following factors: (a) The level of formal scientific, technical education, and/or extension experience of the individual, as well as the extent to which an individual is engaged in relevant education and/or extension activities; (b) the need to include as peer reviewers experts from various areas of specialization within relevant education, and extension fields; (c) the need to include as reviewers other experts (e.g. producers and operators of related agribusinesses) who can assess relevance and efficacy of the proposals to targeted audiences and to program needs; (d) the need to include as peer reviewers experts from a variety of organizational types (e.g., colleges, universities, industry, state and Federal agencies, private profit and non-profit organizations), and geographic locations; (e) the need to maintain a balanced composition of peer review groups with regard to minority and female representation and an equitable age distribution; and (f) the need to include members that can judge the effective usefulness to producers and the general public of each proposal.

B. Evaluation Criteria

1. Regional RME Education Center Proposals

Proposals for RME Centers will be evaluated based on the criteria described below.

a. Focused Development and Delivery of Relevant Risk Management Education Programs to Agricultural Producers—40 points

• Focus on Producers.

Factors include demonstrated understanding of agricultural RME needs including use of feedback mechanisms that identify emerging needs of producers and indicate program relevance and effectiveness.

• Programs targeted to Regional Agricultural Risk Management Education Needs.

Proposals should identify how RME programming will address regional, state and local risk management issues recognizing educational needs associated with specially targeted audiences, including minorities, women and other family members, and with types of agricultural risks associated with specialty crops and climatic conditions.

• Use of RME Materials Appropriate for Regional Educational Needs.

Factors to be considered will include ready access to existing RME materials that apply to regional risk management issues and the ability to develop additional materials as needed.

• Demonstrated Ability to Effectively Deliver Nonformal RME Programs To End-Users.

Successful applicants will exhibit a strong track record of attracting end-users to educational offerings and evidence of effective communication and interaction with participants.

b. Management Capacity To Develop and Maintain a Regional Risk Management Center With Networks To Deliver RME Programs—30 points

• Documentation of how Producer RME needs will be identified and addressed.

Suggested approaches may include the use of surveys and feedback mechanisms to identify RME needs and the formation of Advisory Councils to provide guidance for competitive processes that solicit and select projects at the regional level. Factors that will be considered include the balanced representation of stakeholders within the Region and a defined role for advisory groups in the decision-making processes for Center activities.

• Use of a Competitive Process to Select Projects at the Regional Level.

This process should ensure that public and private entities have equal access to opportunities to submit proposals for regional RME projects, that regional RME objectives are clearly identified, and that partnering and joint efforts are encouraged.

• Development of a Regional RME Delivery Network.

This process should ensure that public and private entities involved in RME participate in an institutional/organizational framework that can coordinate delivery of RME programs to agricultural producers.

• Expertise and Institutional/Organizational Support.

Center staff should possess adequate training, experience and the capacity to develop and manage regional RME programs, conduct training, and participate in national coordination activities. Institutional/organizational support including facilities should be available.

c. Verification of Program Impacts—15 points

• Definition of Performance Targets.

Performance targets should be closely related to program objectives and expected outcomes; and should focus on change in the knowledge and behavior of program participants. Indicators may include participant assessments of improved knowledge and stated intentions to alter behavior that improves their management of risks.

• Regular and Accurate Reporting of RME Program Activities and Impacts.

The process should include the formation of an accountability and reporting system integrated with program objectives and focus on performance, and its use for semi-annual and/or requested reporting at regional and national levels.

d. Effective Regional Communication Networks and Linkage to a National Network—15 points

• Capacity to Provide Effective RME Communication at Intra- and Inter-regional levels.

This includes use of media outlets and the distribution of regional RME materials that have nationwide application.

• Establishment of a Regional Communication Source.

This source should be readily accessible by regional project directors and should be linked to the national Agriculture Risk Library (Website).

• Participation in National Conferences and Workshops.

This activity should promote program coordination and sharing of materials. Priority will be given to projects that are multistate, multi-institutional, multidisciplinary or projects that integrate agricultural research, education and extension.

2. Standard Project Proposals

Proposals for Agricultural Risk Management Education national projects will be evaluated based on the following criteria:

a. Addresses a Nationwide or Multi-State RME (Special) Need—40 points

• Identifies Nationwide RME Special Needs and Proposes Actions To Meet Them.

Successful proposals will address a special or emerging need that has nationwide applicability and/or cannot effectively or efficiently be addressed within a single region. Suggested topics may include education on risks associated with use of agricultural labor that prevail in noncontiguous states or regions; legal risks that are common across regions, and agricultural risks associated with new technologies. Proposals that complement regional efforts such as maintenance/expansion of a national AgRisk electronic library, design and conduct of national training conferences, formation of a national project verification and reporting system, and development of distance learning techniques applicable to RME audiences will be welcomed.

• Addressing Emerging RME Issues.

Proposals should indicate how the RME issue can be addressed, solutions proposed and results/materials be made available nationwide within the time and funding limits set for Standard Projects.

b. Program Complementarity and Innovative Characteristics—20 points

• Complements the Total RME Program.

Factors to be considered include the extent to which the proposal indicates how the purpose and objectives complement the total RME program in an effective manner.

• Adopts Innovative Approaches and Methods.

Consideration will be given to those proposals which identify innovative approaches and methods that can lead to more effective and efficient delivery of RME.

c. Capacity To Conduct Projects and Verify Results—40 points

• Expertise and Support.

Entities submitting successful proposals will employ, or have access to, personnel with knowledge and experience in agricultural RME and who are able to communicate effectively with other RME projects across the nation. Necessary support personnel and infrastructure are required. Ready access and familiarity with existing RME databases and the ability to use them appropriately to achieve project results is desirable.

• Verification of Impacts and Distribution of Results.

Demonstrated capacity to assemble, summarize, and present data that verify RME program impacts and to deliver project materials and results to stakeholders and other RME project leaders with the ability to communicate effectively with a wide range of stakeholders.

C. Conflicts-of-Interest and Confidentiality

During the peer evaluation process, extreme care will be taken to prevent any actual or perceived conflicts-of-interest that may impact review or evaluation. For the purpose of determining conflicts-of-interest, the academic and administrative autonomy of an institution shall be determined by reference to the January 1999 issue of the Code Book for Compatible Statistical Reporting of Federal Science and Engineering Support to Colleges, Universities, and Nonprofit Institutions, prepared by Quantum Research Corporation for the National Science Foundation.

Names of submitting institutions and individuals, as well as proposal content and peer evaluations, will be kept confidential, except to those involved in the review process, to the extent permitted by law. In addition, the identities of peer reviewers will remain confidential throughout the entire review process. Therefore, the names of reviewers will not be released to applicants. At the end of the fiscal year, names of panelists will be made available in such a way that the panelists cannot be identified with the review of any particular proposal.

Part V—Additional Information

A. Access To Review Information

Copies of summary reviews, not including the identity of reviewers, will be sent to the applicant PI/PD after the review process has been completed.

B. Grant Awards

(1) General

Within the limit of funds available for such purpose, the awarding official of CSREES shall make grants to those responsible, eligible applicants whose proposals are judged most meritorious under the procedures set forth in this RFP. The date specified by the Administrator as the effective date of the grant shall be no later than September 30. It should be noted that the project need not be initiated on the grant effective date, but as soon thereafter as practical so that project goals may be attained within the funded project period. All funds granted by CSREES under this RFP shall be expended solely for the purpose for which the funds are granted in accordance with the approved application and budget, the regulations, the terms and conditions of the award, the applicable Federal cost principles, and the Department's assistance regulations (parts 3015, 3016, and 3019 of 7 CFR).

(2) Organizational Management Information

Specific management information relating to an applicant shall be submitted on a one-time basis as part of the responsibility determination prior to the award of a grant identified under this RFP, if such information has not been provided previously under this or another CSREES program. CSREES will provide copies of forms recommended for use in fulfilling these requirements as part of the preaward process.

(3) Grant Award Document and Notice of Grant Award

The grant award document shall include at a minimum the following:

(a) Legal name and address of performing organization or institution to whom the Administrator has awarded a grant under the terms of this request for proposals;

(b) Title of project;

(c) Name(s) and address(es) of PI/PD(s) chosen to direct and control approved activities;

(d) Identifying grant number assigned by the Department;

(e) Project period, specifying the amount of time the Department intends to support the project without requiring recompetition for funds;

(f) Total amount of Departmental financial assistance approved by the Administrator during the project period;

(g) Legal authority(ies) under which the grant is awarded;

(h) Approved budget plan for categorizing allocable project funds to accomplish the stated purpose of the grant award; and

(i) Other information or provisions deemed necessary by CSREES to carry out its respective granting activities or to accomplish the purpose of a particular grant.

The notice of grant award, in the form of a letter, will be prepared and will provide pertinent instructions or information to the grantee that is not included in the grant award document.

All grants awarded under this program will be awarded using a funding mechanism whereby CSREES agrees to support a specified level of effort for a predetermined time period without additional support at a future date.

C. Use of Funds; Changes

(1) Delegation of Fiscal Responsibility

Unless the terms and conditions of the grant state otherwise, the grantee may not in whole or in part delegate or transfer to another person, institution, or organization the responsibility for use or expenditure of grant funds.

(2) Changes in Project Plans

(a) The permissible changes by the grantee, PI/PD(s), or other key project personnel in the approved project grant shall be limited to changes in methodology, techniques, or other aspects of the project to expedite achievement of the project's approved goals. If the grantee and/or the PI/PD(s) are uncertain as to whether a change complies with this provision, the question must be referred to the CSREES Authorized Departmental Officer (ADO) for a final determination.

(b) Changes in approved goals or objectives shall be requested by the grantee and approved in writing by the CSREES ADO prior to effecting such changes. In no event shall requests for such changes be approved which are outside the scope of the original approved project.

(c) Changes in approved project leadership or the replacement or reassignment of other key project personnel shall be requested by the grantee and approved in writing by the CSREES ADO prior to effecting such changes.

(d) Transfers of actual performance of the substantive programmatic work in whole or in part and provisions for payment of funds, whether or not Federal funds are involved, shall be requested by the grantee and approved in writing by the ADO prior to effecting such transfers, unless prescribed otherwise in the terms and conditions of the grant.

(e) Changes in Project Period: The project period may be extended by CSREES without additional financial support, for such additional period(s) as the ADO determines may be necessary to complete or fulfill the purposes of an approved project. Any extension of time shall be conditioned upon prior request by the grantee and approval in writing by the ADO, unless prescribed otherwise in the terms and conditions of a grant, but in no case shall a grant period of performance exceed 5 years.

(f) Changes in Approved Budget: Changes in an approved budget must be requested by the grantee and approved in writing by the ADO prior to instituting such changes if the revision will involve transfers or expenditures of amounts requiring prior approval as set forth in the applicable Federal cost principles, Departmental regulations, or in the grant award.

D. Applicable Federal Statutes and Regulations

Several other Federal statutes and regulations apply to grant proposals considered for review and to project grants awarded under this program. These include, but are not limited to:

7 CFR part 1.1—USDA implementation of the Freedom of Information Act.

7 CFR part 3—USDA implementation of OMB Circular No. A-129 regarding debt collection.

7 CFR part 15, subpart A—USDA implementation of Title VI of the Civil Rights Act of 1964, as amended.

7 CFR part 3015—USDA Uniform Federal Assistance Regulations, implementing OMB directives (i.e., Circular Nos. A-21 and A-122) and incorporating provisions of 31 U.S.C. 6301-6308 (formerly the Federal Grant and Cooperative Agreement Act of 1977, Pub. L. No. 95-224), as well as general policy requirements applicable to recipients of Departmental financial assistance.

7 CFR part 3016—Uniform Administrative Requirements for Grants and Cooperative Agreements to State and Local Governments.

7 CFR part 3017—USDA implementation of Governmentwide Debarment and Suspension (Nonprocurement) and Governmentwide Requirements for Drug-Free Workplace (Grants).

7 CFR part 3018—USDA implementation of Restrictions on Lobbying. Imposes prohibitions and requirements for disclosure and certification related to lobbying on recipients of Federal contracts, grants, cooperative agreements, and loans.

7 CFR part 3019—USDA implementation of OMB Circular A-110, Uniform Administrative Requirements for Grants and Other Agreements With Institutions of Higher Education, Hospitals, and Other Nonprofit Organizations.

7 CFR part 3052—USDA implementation of OMB Circular No. A-133, Audits of States, Local Governments, and Non-profit Organizations.

7 CFR part 3407—CSREES procedures to implement the National Environmental Policy Act of 1969, as amended.

29 U.S.C. 794 (section 504, Rehabilitation Act of 1973) and 7 CFR part 15b (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR part 401).

E. Confidential Aspects of Proposals and Awards

When a proposal results in a grant, it becomes a part of the record of CSREES transactions, available to the public upon specific request. Information that the Secretary determines to be of a confidential, privileged, or proprietary nature will be held in confidence to the extent permitted by law. Therefore, any information that the applicant wishes to have considered as confidential, privileged, or proprietary should be clearly marked within the proposal. The original copy of a proposal that does not result in a grant will be retained by the CSREES for a period of one year. Other copies will be destroyed. Such a proposal will be released only with the consent of the applicant or to the extent required by law. A proposal may be withdrawn at any time prior to the final action thereon.

F. Regulatory Information

For the reasons set forth in the final Rule-related Notice to 7 CFR part 3015, subpart V (48 FR 29115, June 24, 1983), this program is excluded from the scope of the Executive Order 12372 which requires intergovernmental consultation with State and local officials. Under the provisions of the Paperwork Reduction Act of 1995, as amended (44 U.S.C. chapter 35), the collection of information requirements contained in this Notice have been approved under OMB Document No. 0524-0022.

Done at Washington, D.C., this 9th day of April 2001.
K. Jane Coulter,
Acting Administrator, Cooperative State Research, Education, and Extension Service.

[FR Doc. 01-9197 Filed 4-12-01; 8:45 am]

BILLING CODE 3410-22-P